DEPARTMENT OF TRANSPORTATION

Federal Aviation Administration

14 CFR Part 39

[Docket No. FAA-2014-0189; Directorate Identifier 2013-NM-181-AD; Amendment 39-18099; AD 2015-03-03]

RIN 2120-AA64

Airworthiness Directives; Airbus Airplanes

AGENCY: Federal Aviation Administration (FAA), Department of Transportation (DOT).

ACTION: Final rule.

SUMMARY: We are adopting a new airworthiness directive (AD) for certain Airbus Model A300 series airplanes, Model A300 B4-600, B4-600R, and F4-600R series airplanes, and Model A300 C4-605R Variant F airplanes (collectively called Model A300-600 series airplanes). This AD was prompted by a report of chafing found on the overflow sensor harness of the surge tank, and subsequent contact between the electrical wiring and fuel tank structure. This AD requires a one-time inspection for chafing of the overflow sensor harness, and repair if necessary. This AD also requires modification of the sensor harness. We are issuing this AD to prevent chafing of the harness and subsequent contact between the electrical wiring and fuel tank structure, which could result in electrical arcing and a fuel tank explosion and consequent loss of the airplane.

DATES: This AD becomes effective April 6, 2015.

The Director of the Federal Register approved the incorporation by reference of certain publications listed in this AD as of April 6, 2015.

ADDRESSES: You may examine the AD docket on the Internet at http://www.regulations.gov/#!docketDetail;D=FAA-2014-0189 or in person at the Docket Management Facility, U.S. Department of Transportation, Docket Operations, M-30, West Building Ground Floor, Room W12-140, 1200 New Jersey Avenue SE., Washington, DC.

For service information identified in this AD, contact Airbus, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0189.

FOR FURTHER INFORMATION CONTACT: Dan Rodina, Aerospace Engineer, International Branch, ANM-116, Transport Airplane Directorate, FAA, 1601 Lind Avenue SW., Renton, WA 98057-3356; phone: 425-227-2125; fax: 425-227-1149.

SUPPLEMENTARY INFORMATION:

Discussion

We issued a notice of proposed rulemaking (NPRM) to amend 14 CFR part 39 by adding an AD that would apply to all Airbus Model A300 series airplanes, Model A300 B4-600, B4-600R, and F4-600R series airplanes, and Model A300 C4-605R Variant F airplanes (collectively called Model A300-600 series airplanes). The NPRM published in the Federal Register on April 8, 2014 (79 FR 19296).

The European Aviation Safety Agency (EASA), which is the Technical Agent for the Member States of the European Union, has issued EASA Airworthiness Directive 2013-0193, dated August 23, 2013 (referred to after this as the Mandatory Continuing Airworthiness Information, or “the MCAI”), to correct an unsafe condition for all Airbus Model A300 series airplanes, Model A300 B4-600, B4-600R, and F4-600R series airplanes, and Model A300 C4-605R Variant F airplanes (collectively called Model A300-600 series airplanes). The MCAI states:

During a scheduled maintenance check on an A300 aeroplane, chafing was found on the surge tank overflow sensor harness. The harness was found to contact the Magnetic Fuel Level Indicator (MFLI) canister.

Prompted by these findings, DGAC [Direction Générale de l'Aviation Civile] France issued [(http://ad.easa.europa.eu/blob/easa_ad_1999_404_293.pdf/AD_1999-404-293)] to require modification of the harness routing in accordance with the instructions of Airbus SB [service bulletin] A300-28-0058 or SB A300-28-6020, as applicable to aeroplane model.

Since that [DGAC] AD was issued, maintenance work on modified A300-600 aeroplanes revealed some chafing of the harness, creating a potential contact between the electrical wire and fuel tank structure. Investigations have shown that although measures were taken to prevent contact of the harness with the MFLI (through modification 04489), the installation can be subject to human error. As the MFLI is integral to the access panel in this location, any potential contact with the harness (as a result of incorrect installation) is hidden.

This condition, if not detected and corrected, could lead to electrical arcing, possibly resulting in a fuel tank explosion and loss of the aeroplane. To address this potential unsafe condition, Airbus issued SB A300-28-0091 for A300 aeroplanes, SB A300-28-6109 for A300-600 aeroplanes, and A300-28-9022 for A300-600ST aeroplanes.

For the reasons described above, this [EASA] AD requires a one-time inspection of the harness and, depending on findings, corrective actions, as well as replacement of angle brackets by error-proof harness brackets.

You may examine the MCAI in the AD docket on the Internet at http://www.regulations.gov/#!documentDetail;D=FAA-2014-0189-0002.

Comments

We gave the public the opportunity to participate in developing this AD. The following presents the comments received on the NPRM (79 FR 19296, April 8, 2014) and the FAA's response to each comment.

Request To Remove AD Reference in Repair Approvals

United Parcel Service (UPS) asked that we remove the requirement to include the AD reference in repair approvals, as specified in paragraph (g)(1) of the proposed AD (79 FR 19296, April 8, 2014), which states “For a repair to be approved, the repair must specifically refer to this AD.” UPS stated the following: “The proposed wording, being specific to repairs, eliminates the interpretation that Airbus messages are acceptable for approving minor deviations (corrective actions) needed during accomplishment of a mandated Airbus service bulletin.” UPS added that this will result in an increase in alternative method of compliance (AMOC) requests.

We agree with the commenter's request to remove the requirement that repair approvals specifically refer to this AD, from this AD.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 19296, April 8, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the AD.

As stated previously, UPS commented that: “The proposed wording, being specific to repairs, eliminates the interpretation that Airbus messages are acceptable for approving minor deviations (corrective actions) needed during accomplishment of an AD mandated Airbus service bulletin.” This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer, that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an AMOC.

Commenters to an NPRM having Directorate Identifier 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement from this AD that the DAH-provided repair specifically refer to this AD. Before adopting such a requirement in the future, the FAA will coordinate with affected DAHs and verify they are prepared to implement means to ensure that their repair approvals consider the unsafe condition addressed in an AD. Any such requirements will be adopted through the normal AD rulemaking process, including notice-and-comment procedures, when appropriate.

We also have decided not to include a generic reference to either the “delegated agent” or the “DAH with State of Design Authority design organization approval,” but instead we have provided the specific delegation approval granted by the State of Design Authority for the DAH.

Request To Extend the Compliance Time

UPS asked that we extend the compliance time specified in paragraph (g) of the proposed AD (79 FR 19296, April 8, 2014) from 30 to 36 months. UPS stated that it expects to accomplish the inspection during its existing C-check interval, which is 30 months. UPS added that in order to perform the inspection and repair at its major maintenance facility during C-checks, it requires an additional 6 months to allow for planning, preparation, and prototyping of the service information. UPS noted that this additional time is for the prototyping effort necessary when a project is initiated; UPS has determined that service information is often revised during accomplishment of the required actions, which makes it difficult to maintain regular maintenance schedules. Therefore, UPS must schedule special visit check lines for accomplishing the actions.

We do not agree with the commenter's request to extend the compliance time. In developing an appropriate compliance time for this action, we considered the safety implications, parts availability, and normal maintenance schedules for the timely accomplishment of the inspection and subsequent modification. In consideration of these items, as well as the possibility of chafing of the overflow sensor harness, we have determined that a 30-month compliance time will ensure an acceptable level of safety and allow the modification to be done during scheduled maintenance intervals for most affected operators. However, under the provisions of paragraph (j)(1) of this AD, we will consider requests for approval of an extension of the compliance time if sufficient data are submitted to substantiate that the new compliance time would provide an acceptable level of safety. We have not changed this AD in this regard.

Request To Include Another Source of Service Information

FedEx Express asked that we allow the use of UTC Aerospace Systems Service Bulletin V-1577 for accomplishing the actions in the NPRM (79 FR 19296, April 8, 2014). FedEx Express stated that it operates 71 Airbus Model A300-600 series airplanes, and 65 of those airplanes have had the in-tank fuel quantity system modified by a certain supplemental type certificate (STC), which means Airbus Service Bulletin A300-28-6109, Revision 01, dated December 20, 2013 (referred to as the appropriate source of service information for accomplishing the actions), cannot be used to accomplish the proposed actions. However, FedEx Express noted that six of its airplanes have the production in-tank fuel quantity system installed, and the referenced service information can be used for those airplanes. FedEx Express stated that the UTC Aerospace Systems service bulletin has not been issued yet; however, after issuance it should be included in the NPRM as a source of service information for accomplishing the proposed actions in order to mitigate the unsafe condition.

We partially agree with the commenter. We agree that airplanes that have had the in-tank fuel quantity system modified by STC ST00092BO (http://rgl.faa.gov/Regulatory_and_Guidance_Library/rgstc.nsf/0/D41C5AE8E46B4901862574900069E004?OpenDocument&Highlight=st00092bo) cannot accomplish the actions proposed in the NPRM (79 FR 19296, April 8, 2014) by using Airbus Service Bulletin A300-28-6109, Revision 01, dated December 20, 2013. Since the issuance of the NPRM, UTC Aerospace Systems has issued service bulletin 300723-28-03 (V-1577), dated October 10, 2014, to address the unsafe condition for airplanes that have been modified by supplemental type certificate ST00092BO.

We do not agree to revise this AD to require UTC Aerospace Systems Service Bulletin 300723-28-03 (V-1577), dated October 10, 2014. Instead, we are considering separate rulemaking to require the procedures and compliance time specified in UTC Aerospace Systems Service Bulletin 300723-28-03 (V-1577), dated October 10, 2014, for airplanes modified by STC ST00092BO. Therefore, we have revised paragraph (c) of this AD by removing airplanes modified by STC ST00092BO from the applicability of this AD.

Request To Include Revised Service Information

FedEx Express asked that Revision 02 of Airbus Service Bulletin A300-28-6109 be included for accomplishing the actions in the NPRM (79 FR 19296, April 8, 2014) before the final rule is issued. FedEx Express stated that it reviewed Airbus Service Bulletin A300-28-6109, Revision 01, dated December 20, 2013, and submitted its findings to Airbus for incorporation into upcoming Revision 02 before issuance. FedEx Express added that its intent in doing so was to prevent future requests for AMOCs to the FAA.

We disagree with the commenter's request to include Revision 02 of Airbus Service Bulletin A300-28-6109. We are aware that Airbus is considering revising Airbus Service Bulletin A300-28-6109, Revision 01, dated December 20, 2013, to incorporate feedback received from FedEx Express in the Accomplishment Instructions of the service bulletin. We will consider approving Revision 02 of Airbus Service Bulletin A300-28-6109 as an AMOC to the actions specified in paragraphs (g) and (h) of this AD, once this service bulletin is released. However, we find that delaying this AD action would be inappropriate in light of the urgency of the identified unsafe condition. Therefore, no change has been made to this AD in this regard.

Request To Clarify the “Required for Compliance” Instructions

FedEx Express asked for clarification as to whether the Required for Compliance (RC) note identified in the Accomplishment Instructions of Airbus Service Bulletin A300-28-6109, Revision 01, dated December 20, 2013, is applicable to the actions specified in the NPRM (79 FR 19296, April 8, 2014) and EASA Airworthiness Directive 2013-0193, dated August 23, 2013.

We acknowledge the commenter's concern and provide the following clarification:

The FAA worked in conjunction with industry, under the Airworthiness Directives Implementation Aviation Rulemaking Committee (ARC), to enhance the AD system. One enhancement is a new process for annotating which steps in the service information are “required for compliance” with an AD. Differentiating these steps from other tasks in the service information is expected to improve an owner's and operator's understanding of AD requirements and help provide consistent judgment in AD compliance. In response to the AD Implementation ARC, the FAA released AC 20-176, Revision A, dated June 16, 2014, (http://rgl.avs.faa.gov/Regulatory_and_Guidance_Library/rgAdvisoryCircular.nsf/0/a78cc91a47b192278625796b0075f419/$FILE/AC%2020-176.pdf); and Order 8110.117 (http://rgl.avs.faa.gov/Regulatory_and_Guidance_Library/rgOrders.nsf/0/984bb9eb07cdd86986257a7f0070744c/$FILE/Order%208110.117.pdf), which include the concept of RC. The FAA has begun implementing this concept in ADs when we receive service information containing RC steps. Therefore, the RC note does apply to the actions required by this AD when using Airbus Service Bulletin A300-28-6109, Revision 01, dated December 20, 2013, to accomplish the required actions. We do not have information concerning how EASA implements the RC concept in its ADs.

We split paragraph (j)(1) and redesignated the content as paragraphs (j)(1) and (j)(1)(i) of this AD, and added paragraph (j)(1)(ii) to this AD to reflect information concerning the RC concept and to explain when it is necessary to request approval of an AMOC.

Clarification of Inspection Type

Paragraph (g) of this AD has been revised to clarify the inspection type as a one-time general visual inspection.

Conclusion

We reviewed the relevant data, considered the comments received, and determined that air safety and the public interest require adopting this AD with the changes described previously and minor editorial changes. We have determined that these changes:

• Are consistent with the intent that was proposed in the NPRM (79 FR 19296, April 8, 2014) for correcting the unsafe condition; and

• Do not add any additional burden upon the public than was already proposed in the NPRM (79 FR 19296, April 8, 2014).

We also determined that these changes will not increase the economic burden on any operator or increase the scope of this AD.

Related Service Information Under 1 CFR Part 51

We reviewed Airbus Mandatory Service Bulletins A300-28-0091, dated March 5, 2013; and A300-28-6109, Revision 01, dated December 20, 2013. This service information describes procedures for a one-time inspection for chafing of the overflow sensor harness, and contacting the manufacturer for repair instructions. This service information also describes modification of the sensor harness. This service information is reasonably available; see ADDRESSES for ways to access this service information.

Costs of Compliance

We estimate that this AD affects 123 airplanes of U.S. registry.

We also estimate that it takes about 3 work-hours per product to comply with the inspection required by this AD. The average labor rate is $85 per work-hour. Based on these figures, we estimate the cost of this inspection on U.S. operators to be $31,365, or $255 per product.

We estimate that it takes about 12 work-hours per product to comply with the modification requirements of this AD. The average labor rate is $85 per work-hour. Required parts cost about $500 per product. Based on these figures, we estimate the cost of this modification on U.S. operators to be $186,960, or $1,520 per product.

We have received no definitive data that would enable us to provide cost estimates for the on-condition repairs specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0189; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-03-03 Airbus: Amendment 39-18099. Docket No. FAA-2014-0189; Directorate Identifier 2013-NM-181-AD.

(a) Effective Date

This AD becomes effective April 6, 2015.

(b) Affected ADs

None.

(c) Applicability

This AD applies to the Airbus airplanes specified in paragraphs (c)(1), (c)(2), (c)(3), (c)(4), and (c)(5) of this AD, certificated in any category, all manufacturer serial numbers; except for airplanes modified by supplemental type certificate ST00092BO (http://rgl.faa.gov/Regulatory_and_Guidance_Library/rgstc.nsf/0/D41C5AE8E46B4901862574900069E004?OpenDocument&Highlight=st00092bo).

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 28, Fuel.

(e) Reason

This AD was prompted by a report of chafing found on the overflow sensor harness of the surge tank, and subsequent contact between the electrical wiring and fuel tank structure. We are issuing this AD to prevent chafing of the harness and subsequent contact between the electrical wiring and fuel tank structure, which could result in electrical arcing and a fuel tank explosion and consequent loss of the airplane.

(f) Compliance

Comply with this AD within the compliance times specified, unless already done.

(g) One-Time Inspection and Repair

Within 30 months after the effective date of this AD: Perform a one-time general visual inspection for chafing of the outer tank sensor harness between ribs 26 and 27, in accordance with the Accomplishment Instructions of Airbus Service Bulletin A300-28-0091, dated March 5, 2013 (for Model A300 series airplanes); or Airbus Service Bulletin A300-28-6109, Revision 01, dated December 20, 2013 (for Model A300-600 series airplanes);

(1) If any previous repairs are identified, or if braid and wire insulation is found damaged with the conductor exposed during the inspection required by the introductory text of paragraph (g) of this AD: Before further flight, repair using a method approved by the Manager, International Branch, ANM-116, Transport Airplane Directorate, FAA; or the European Aviation Safety Agency (EASA); or Airbus's EASA Design Organization Approval (DOA).

(2) If the braid and wire insulation is found damaged without the conductor exposed during the inspection required by the introductory text of paragraph (g) of this AD: Before further flight, repair, in accordance with the Accomplishment Instructions of Airbus Service Bulletin A300-28-0091, dated March 5, 2013 (for Model A300 series airplanes); or Airbus Service Bulletin A300-28-6109, Revision 01, dated December 20, 2013 (for Model A300-600 series airplanes).

(h) Modification

(1) For airplanes on which no damage was found during the inspection required by the introductory text of paragraph (g) of this AD: Before further flight, install modified and error-proof angle brackets to stringer 15 between ribs 26 and 27 of the outer tank sensor harness, in accordance with the Accomplishment Instructions of Airbus Service Bulletin A300-28-0091, dated March 5, 2013 (for Model A300 series airplanes); or Airbus Service Bulletin A300-28-6109, Revision 01, dated December 20, 2013 (for Model A300-600 series airplanes).

(2) For airplanes on which any damage was found during the inspection required by the introductory text of paragraph (g) of this AD, and the applicable repair required by paragraph (g)(1) or (g)(2) of this AD has been done: Before further flight, install modified and error-proof angle brackets to stringer 15 between ribs 26 and 27 of the outer tank sensor harness, in accordance with the Accomplishment Instructions of Airbus Service Bulletin A300-28-0091, dated March 5, 2013 (for Model A300 series airplanes); or Airbus Service Bulletin A300-28-6109, Revision 01, dated December 20, 2013 (for Model A300-600 series airplanes).

(i) Credit for Previous Actions

This paragraph provides credit for actions required by paragraphs (g) and (h) of this AD, if those actions were performed before the effective date of this AD using Airbus Service Bulletin A300-28-6109, dated March 5, 2013, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; phone: 425-227-2125; fax: 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) Except as required by paragraph (g)(1) of this AD: If the service information contains procedures or tests that are identified as RC (Required for Compliance), those procedures and tests must be done to comply with this AD; any procedures and tests that are not identified as RC are recommended. Those procedures and tests that are not identified as RC may be deviated from using accepted methods in accordance with the operator's maintenance or inspection program without obtaining approval of an AMOC, provided the procedures and tests identified as RC can be done and the airplane can be put back in a serviceable condition. Any substitutions or changes to procedures or tests identified as RC require approval of an AMOC.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(k) Related Information

(1) Refer to Mandatory Continuing Airworthiness Information (MCAI) EASA Airworthiness Directive 2013-0193, dated August 23, 2013, for related information. This MCAI may be found in the AD docket on the Internet at http://www.regulations.gov/#!documentDetail;D=FAA-2014-0189-0002.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-28-0091, dated March 5, 2013.

(ii) Airbus Service Bulletin A300-28-6109, Revision 01, dated December 20, 2013.

(3) For service information identified in this AD, contact Airbus, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 2, 2015.
Jeffrey E. Duven,
Manager, Transport Airplane Directorate, Aircraft Certification Service.

[FR Doc. 2015-02676 Filed 2-27-15; 8:45 am]

BILLING CODE 4910-13-P